DEPARTMENT OF DEFENSE

Department of the Army; Corps of Engineers

Availability of the Draft Environmental Impact Statement for the Athens Navigation Project, Village of Athens, Greene County, NY

AGENCY: Department of the Army, U.S. Army Corps of Engineers, DoD.

ACTION: Notice of availability

SUMMARY: This announces the availability of the Draft Environmental Impact Statement (DEIS) which assesses the potential environmental impacts of the construction of deepening the navigation channel at Athens, NY. This DEIS has been prepared in accordance with the National Environmental Policy Act (NEPA), and U.S. Army Corps of Engineers (USACE) regulations for implementing NEPA.

DATES: The comment period for the DEIS will end 45 days after publication of the NOA in the Federal Register by the U.S. Environmental Protection Agency. The end date falls within the second week of January 2005.

ADDRESSES: To obtain copies of the DEIS or submit comments, contact Bonnie Hulkower, Environmental Coordinator, U.S. Army Corps of Engineers, New York District, 26 Federal Plaza, Room 2146, New York, NY 10278-0090

FOR FURTHER INFORMATION CONTACT: Bonnie Hulkower, Planning Division—Environmental Branch, at (212) 264-5798 or bonnie.hulkower@usace.army.mil.

SUPPLEMENTARY INFORMATION: The previous Notice of Intent, (69 FR 67711) published in the Federal Register on Friday, November 19, 2004, was sent out in error. This Notice of Availability officially begins a 45-day comment period. Please disregard the previous notice.

The purpose of this DEIS is to analyze significant issues and information relevant to environmental concerns regarding the proposed deepening and alternative actions at Athens, NY. The project is a modification to the Hudson River to Waterford project, authorized and directed by Section 110 of the Energy and Water Development Appropriations Act of 1997 (Pub. L. 104-206).

Deepening the Athens Navigation Channel to -24 ft MLW would allow safe and efficient passage of barges to commercial terminals along the waterfront at Athens. The plan entails deepening of the Athens Navigation Channel from its confluence with the Hudson Federal Channel north to the north dock at Union Street, Athens, NY. Currently, the barges entering the western portion of the Hudson River from the Federal Channel into the terminals at Athens cannot be fully loaded due to insufficient channel depth. The project also supports the Village of Athens Waterfront Revitalization Program.

Based upon information presently available, the USACE-New York District estimates that construction of the project to -24 ft MLW plus a 2-ft allowance for dredging tolerance would excavate approximately 935,000 cubic yards of clean unconsolidated sediments from the channel. The recommended plan is to beneficially use suitable dredge material to enhance or restore fisheries habitat and place the remaining excavated dredge material approximately 15 miles up river from Athens, on the southern portion of Houghtaling Island, the USACE maintenance dredge material placement site for projects in the Albany area.

The purpose of this DEIS is to analyze significant issues and information relevant to environmental concerns bearing on the proposed action or its anticipated impacts. The analysis indicates that short-term adverse environmental impacts, such as removal of benthic invertebrates in the dredged area, would be balanced by long-term beneficial impacts, such as contributions to the revitalization of the Athens waterfront.

Biological monitoring will be coordinated with the U.S. Fish and Wildlife, the National Marine Fisheries Service, and the New York State Department of Environmental Conservation. All activity associated with the project would be undertaken in a way to minimize adverse impacts to sensitive habitats and threatened and endangered species, and adjacent shorelines, as well as to minimize cumulative impacts.

A 404(b)(1) evaluation has been prepared for the project and is included in the DEIS. The proposed action and alternatives do not represent a significant threat of degradation to the aquatic environment, and are in compliance with the 404(b)(1) Guidelines.

A Public Scoping Meeting was held in May 2002 and the results were collected in a Public Scoping Document. Results from public and agency scoping coordination are addressed in the DEIS. Copies of the DEIS are also available at the Hudson Area Associated Library, 400 State Street, Hudson, NY 12534.

Brenda S. Bowen,
Army Federal Register Liaison Officer.

[FR Doc. 04-26140 Filed 11-24-04; 8:45 am]

BILLING CODE 3710-06-M